NUCLEAR REGULATORY COMMISSION

[NRC-2015-0274]

Service Contracts Inventory

AGENCY: Nuclear Regulatory Commission.

ACTION: Notice of availability.

SUMMARY: The U.S. Nuclear Regulatory Commission (NRC) is providing for public information its Inventory of Contracts for Services and Inventory Supplement for Fiscal Year (FY) 2015. The inventory includes service contract actions over $25,000 that were awarded in FY 2015. The inventory supplement includes information collected from contractors on the amount invoiced and direct labor hours expended for covered service contracts.

DATES: April 25, 2016.

ADDRESSES: Please refer to Docket ID NRC-2015-0274 when contacting the NRC about the availability of information regarding this document. You may obtain publicly-available information related to this document using any of the following methods:

• Federal Rulemaking Web site: Go to http://www.regulations.gov and search for Docket ID NRC-2015-0274. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that a document is referenced. The Inventory of Contracts for Services and Inventory Supplement for FY 2015 can be accessed in ADAMS under Accession No. ML16061A306 and ML16061A310, respectively. The inventory and supplement were published on the NRC's Web site at the following location: http://www.nrc.gov/about-nrc/contracting.html.

• NRC's PDR: You may examine and purchase copies of public documents at the NRC's PDR, Room O1-F21, One White Flint North, 11555 Rockville Pike, Rockville, Maryland 20852.

FOR FURTHER INFORMATION CONTACT: Lori Konovitz, Office of Administration, U.S. Nuclear Regulatory Commission, Washington, DC 20555-0001; telephone: 301-415-0039, email: Lori.Konovitz@nrc.gov.

SUPPLEMENTARY INFORMATION: In accordance with Section 743 of Division C of the FY 2010 Consolidated Appropriations Act, Public Law 111-117, the NRC is publishing this notice to advise the public of the availability of its FY 2015 Service Contracts Inventory and Inventory Supplement.

The inventory provides information on service contract actions over $25,000 that were awarded in FY 2015. The information is organized by function to show how contracted resources are distributed throughout the agency. The inventory contains the following data:

1. A description of the services purchased;

2. The role the contracted services played in achieving agency objectives;

3. The total dollar amount obligated for the services under the contract, and the funding source for the contract;

4. The contract type and date of the award;

5. The name of the contractor and place of performance;

6. Whether the contract is a personal services contract; and

7. Whether the contract was awarded on a non-competitive basis.

The inventory supplement includes information collected from contractors for covered contracts on the amount invoiced for services and the number of contractor and first-tier subcontractor employees, expressed as full-time equivalents for direct labor, compensated under the contract.

The NRC will analyze the data for the purpose of determining if its contract labor is being used in an effective and appropriate manner and if the mix of federal employees and contractors in the agency is effectively balanced. The inventory and supplement do not include contractor proprietary or sensitive information.

Dated at Rockville, Maryland, this 18th day of April 2016.
For the Nuclear Regulatory Commission.
James C. Corbett,
Director, Acquisition Management Division, Office of Administration.

[FR Doc. 2016-09554 Filed 4-22-16; 8:45 am]

BILLING CODE 7590-01-P